DEPARTMENT OF LABOR

Employment and Training Administration

[TA-W-52,501]

Hexcel Corporation, Kent, WA; Notice of Termination of Investigation

Pursuant to section 221 of the Trade Act of 1974, an investigation was initiated on August 11, 2003, in response to a worker petition filed by the South Carolina Employment Services, on behalf of a worker at Hexcel Corporation, Kent, Washington. The worker was separated from the subject firm more than one year prior to the date of the petition. Section 223 of the Act specifies that no certification may apply to any worker whose last separation occurred more than one year before the date of the petition.

The petitioner has requested that the petition be withdrawn. Consequently, further investigation in this case would serve no purpose, and the investigation may be terminated.

Signed in Washington, DC, this 2nd day of September 2003.
Richard Church,
Certifying Officer, Division of Trade Adjustment Assistance.

[FR Doc. 03-24695 Filed 9-29-03; 8:45 am]

BILLING CODE 4510-30-P